DEPARTMENT OF TRANSPORTATION

ITS Joint Program Office; IntelliDrive℠ Task Force Meeting; Notice of Meeting

AGENCY: Research and Innovative Technology Administration, U.S. Department of Transportation.

ACTION: Notice.

The USDOT Intelligent Transportation Systems (ITS) Joint Program Office will hold a meeting with the Institute of Transportation Engineers (ITE) IntelliDrive Task Force on August 10 and 11, 2010 during the ITE's Annual meeting at the Vancouver Convention and Exhibit Center, 1055 Canada Place, Vancouver, BC V6C 0C3, Canada.

The purpose of the meeting is to review various aspects of the IntelliDrive research program and to obtain stakeholder input on user needs for the definition of the core IntelliDrive System. The ITE IntelliDrive Task Force represents transportation engineering professionals from the public and private sectors.

The meeting is open to the public at no charge (public attendees do not need to register for the ITE meeting). However please RSVP your intent to attend to Delores Colbert at delores.colbert@dot.gov and include the following in the subject line: ITE IntelliDrive Task Force Meeting.

Following is the meeting preliminary agenda: Day one; ITE IntelliDrive Task Force Committee Business, IntelliDrive mobility program summary, IntelliDrive safety program policy research roadmap, IntelliDrive infrastructure deployment scenarios research, and IntelliDrive systems engineering research project overview. Day two; IntelliDrive systems engineering user needs gathering exercise.

Information about the IntelliDrive research program is available at: http://www.its.dot.gov/index.htm. Additional opportunities to provide input to the IntelliDrive systems engineering research program are available on August 25-26, 2010 in Detroit, MI (9-4:30 local time) and September 1-2, 2010 in San Jose, CA (9-4:30 local time). Information is available at: http://www.its.dot.gov/press/2010/intellidrive_user_workshop.htm.

Issued in Washington, DC, on the 28th day of July 2010.
Linda Dodge,
Chief of Staff, ITS Joint Program Office.

[FR Doc. 2010-18992 Filed 8-2-10; 8:45 am]

BILLING CODE 4910-HY-P